ENVIRONMENTAL PROTECTION AGENCY

[ER-FRL-6629-4]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167.

An explanation of the ratings assigned to draft environmental impact statements (EISs) was published in FR dated April 12, 2002, (67 FR 17992).

Draft EISs

ERP No. D-AFS-J82016-MT Rating EC2, Bitterroot National Forest Noxious Weed Treatment Project, Ground and Aerial Herbicides Application, Mechanical, Biological and Cultural Weed Treatment and Public Awareness Measures, Implementation, Stevensville Ranger District, Bitterroot National Forest, Ravalli County, MT.

Summary: EPA supports the need for an integrated weed management program, but expressed environmental concerns regarding potential for herbicide transport to surface and ground water, and recommended improved mitigation measures to reduce risk of drift or herbicides to aquatic areas during aerial application. Specifically, the final EIS should include information regarding application rates for herbicide treatments, and information on herbicide leaching potential and aquatic toxicity and a minimal level of monitoring for herbicides in selected sensitive waters to validate effectiveness of mitigation measures.

ERP No. D-DOE-L08059-WA Rating EC2, Schultz-Hanford Transmission Line Project, New 500 kilovolt (kV) Transmission Line Construction, Central Washington, north of Hanford connecting to existing line at the Schultz Substation, Kittitas, Yakima, Grant and Benton Counties, WA.

Summary: EPA expressed environmental concerns with the purpose and need and alternatives evaluated, characterization of expected effects and proposed mitigation measures. EPA recommended that the FEIS include a monitoring and evaluation plan and include a discussion of the rationale for evaluating two specific project segments (Segment A Reroute and Segment B).

ERP No. D-DOE-L08060-00 Rating EC2, Wallula Power Project and Wallula-McNary Transmission Line Project, Construction and Operation, 1300 megawatt(MW) Natural Gas Fired Combustion Gas Turbine Facility and a new 500-kilovolt(kV) Transmission Line and Upgrade of the McNary Substation, US COE Section 10 and 404 Permits, Walla-Walla Co., WA and Umatilla Co., OR.

Summary: EPA had environmental concerns and identified issues with the project purpose and need and alternatives, air quality impact assessment, cumulative effects, lack of a monitoring and evaluation plan, noise effects on wildlife and vegetation management. EPA recommended that these issues be addressed in the final EIS.

ERP No. D-DOE-L08061-00 Rating EC2, McNary-John Day Transmission Line Project, Construction, Operation and Maintenance of a 79-mile-long 500-Kilovolt-Transmission Line between McNary Substation and John Day Substation, Umatilla and Sherman Counties, OR and Benton and Klickitat Counties, WA.

Summary: EPA has environmental concerns due to the lack of a demonstrated need for the project, an effectively constrained range of alternatives and the general, programmatic analyses for a site specific project. EPA recommends that the final EIS demonstrate the need for the project, examine the full range of reasonable alternatives, and include site-specific information and analyses about the project corridor, proposed project and mitigation measures.

ERP No. D-FHW-E40793-00 Rating EC2, Appalachian Corridor I-66 Highway Construction, US 23/119 south of Pikeville, KY eastward to the King Coal Highway southeast of Matewan, Funding and US Army COE Section 404 Permits Issuance, Pike County, KY and Mingo County, WV.

Summary: EPA expressed environmental concerns regarding locations of Alternates and Connectors, avoidance and mitigation of wetlands and stream impacts, and potential secondary and cumulative impacts. EPA requested additional information on these issues and clarification of study area maps.

ERP No. D-FHW-F40399-MI Rating EC2, M-15 Reconstruction, I-75 to I-69, Funding and NPDES and US Army COE Section 404 Permits Issuance, Oakland and Genesse Counties, MI.

Summary: EPA has environmental concerns and have identified issues relating to: Alternatives, wetland impacts/ mitigation, surface/groundwater water and cumulative impacts.

ERP No. D-FHW-F40402-MI Rating EC2, I-94 Jackson Freeway Modernization Project, Improvements between Michigan State Route-60 (MI-60) and Sargent Road, Funding and NPDES and US Army COE Section 404 Permits Issuance, Jackson County, MI.

Summary: EPA identified environmental concerns with respect to wetland and stormwater impacts.

ERP No. D-FRC-J03014-00 Rating EC2, Kern River 2003 Gas Transmission Project, Expansion of the existing (KRGT) Interstate Pipeline System from southwestern Wyoming to southern California, Right-of-Way Grant, NPDES and US Army COE Section 404 Permits Issuance, (FERC Docket NO. CP01-422-000), WY, UT, NV and CA.

Summary: EPA expressed environmental concerns about impacts to wetlands and riparian areas, as well as the need to include information on revegetation plans and methods for controlling erosion.

ERP No. D-FRC-L05222-ID Rating EO2, Four Mid-Snake River Hydroelectric Projects, Applications for New License for the Existing Projects: Shoshane Falls-FERC No. 2778, Upper Salmon Falls-FERC No. 2777, Lower Salmon Falls-FERC No. 2061 and Bliss-FERC No. 1975, Snake River, ID.

Summary: EPA expressed objections to three of the alternatives evaluated in the DEIS as they would not result in any appreciable improvement to instream or riparian environmental conditions. EPA expressed concerns with the Year-Round Run-of-River alternative due to the lack of clarity as to whether this alternative would effectively deliver the quantity and quality of water needed for downstream salmon recovery efforts. EPA recommended that the FEIS include additional information related to project purpose and need, issues identified during scoping, relationship to salmon recovery efforts, water quality and project impacts and mitigation.

ERP No. D-FTA-G54006-TX Rating LO, Southeast Corridor Light Rail Transit Project, Construction and Operation, Funding, NPDES Permit and US Army COE Section 404 Permit Issuance and, Mobility 2025 Plan Update, Dallas Area Rapid Transit (DART), City of Dallas, Dallas County, TX.

Summary: EPA has no objection to the alternative presented in the Draft EIS.

ERP No. D-JUS-K99007-CA Rating EO2, 14-Mile Border Infrastructure System Completion along the United States and Mexico Border, Areas I, V and VI, Pacific Ocean to just east of Tin Can Hill, San Diego County, CA.

Summary: EPA expressed environmental objections regarding the preferred alternative. EPA requested that the FEIS address the environmental degradation of ecologically sensitive habitat, wetlands and water quality. EPA also expressed concerns regarding impacts to cultural and recreational resources.

ERP No. D-NPS-F65031-MN Rating EC2, Grand Portage National Monument General Management Plan, Implementation, Cook County, MN.

Summary: EPA expressed environmental concerns of potential impacts to sensitive cultural resources and the need for clarification on the extent and potential disturbance from new and expanded trail systems.

ERP No. D-SFW-K70013-CA Rating LO, Multiple Habitat Conservation Program for Threatened and Endangered Species Due to the Urban Growth within the Planning Area, Adoption and Incidental Take Permits Issuance, San Diego County, CA.

Summary: EPA expressed a lack of objections with the DEIS and proposed project, and indicated EPA's support for a multi-species, multi-habitat approach as well as implementing “adaptive management” techniques.

ERP No. DR-FHW-L40199-WA Rating EC2, WA-509 Corridor Completion/I-5/South Access Road Project, Improvements to WA-509 Extension, Enhancement of Southern Access to and from Sea-Tac International Airport and I-5 Improvements between South 210th Street and 310th Street, Funding, US Army COE Section 404 Permit and NPDES Permit Issuance, King County, WA.

Summary: EPA expressed environmental concerns relating to impacts associated with aquatic resources, air quality, direct/indirect, and cumulative effects, environmental justice and Tribal consultation.

ERP No. DS-AFS-G65049-00 Rating LO, Vegetation Management in the Ozark/Quachita Mountains, Proposal to Clarify Direction for Conducting Project-Level Inventories for Biological Evaluations (BEs), Qzark, Quachita and St. Francis National Forests, AR and McCurtain and LeFlore Counties, OR.

Summary: EPA has lack of objections to the preferred alternative.

ERP No. DS-COE-F36163-00 Rating LO, Upper Des Plaines River, Flood Damage Reduction at Site 37, Construction of a Concrete Floodwall along Des Plaines River, Milwaukee Avenue, Willow Road, and Palatine Road in Mt. Prospect, Cook County, IL.

Summary: EPA has no objections to the proposed project, and commended the Corps for the extensive wetland mitigation proposals.

ERP No. DS-FAA-E40785-FL Rating EC2, Fort Lauderdale-Hollywood International Airport, New Information and Changes to the Aviation Activity Forecasts as Presented, Proposed Expansion of Runway 9R-2FL and other Associated Improvements, Funding, Broward County, FL.

Summary: EPA continues to have environmental concerns regarding the Proposed Project, primarily the mitigation of future noise impacts of the southern area and full disclosure of the cumulative impacts of local vision plans as they relate to FLL.

ERP No. DS-FRC-L05208-WA Rating EO2, Irene Creek Hydroelectric Project, (FERC No. 10100-002) and Anderson Creek Hydroelectric Project (FERC No. 10416-003), Construction and Operation, Issuance of Amended License Applications, Skagit and Whatcom Counties, WA.

Summary: EPA has environmental objections to the proposed projects because they would undermine provisions of the Northwest Forest Plan that protect sensitive species, degrade State-designated “extraordinary” water quality in Anderson and Irene Creeks, and likely adversely affect bull trout stocks listed as threatened under the Endangered Species Act. EPA recommended that FERC select the no-action alternative due to these impacts and the lack of a demonstrated public need for future power. The FEIS should also fully analyze the affected environment and environmental consequences instead of proposing such analysis at a later time.

ERP No. DS-FTA-K40241-HI Rating LO, Oahu Primary Corridor Transportation Project, Updated Information on the Refined Bus Rapid Transit (BRT) Alternative, Major Investment Study, City and County of Honolulu, HI.

Summary: EPA has no objection to the proposed action.

Final EISs

ERP No. F-AFS-G65079-NM Talpa-to-Penasco Construction and Operation of a 69 kV Transmission Line, Carson National Forest, Camine Real Ranger District, Tasos County, NM.

Summary: EPA had no comment on the FEIS.

ERP No. F-BLM-G65077-NM Santo Domingo Pueblo and Bureau of Land Management Proposed Land Exchange Project, Sandoval and Santa Fe Counties, NM.

Summary: EPA had no comments on the FEIS.

ERP No. F-COE-G39035-AR Greers Ferry Lake Shoreline Management Plan (SMP), Implementing Revision to Replace the 1994 Shore Management Plan, Revision include Zoning of Limited Development Areas, Vegetation Modification Provisions for Grandfathered Docks and Restrictions on Boats, Van Buren, Cleburne, Searcy Stone, White, Independence and Pope Counties, AR.

Summary: The Final EIS adequately responded to EPA's comments offered on the DEIS.

ERP No. F-FHW-C40154-NY Interstate 86/Route 15 Interchange and Route 15/ Gang Mills Interchange, New Roadway and Ramp

Construction, Intersection Reconstruction, New Bridges Construction and Bridge Rehabilitation, Funding, Town of Erwin, Steuben County, NY.

Summary: EPA's concerns with impacts to wetlands in the draft EIS have been adequately addressed in the final EIS, therefore EPA has no objection to the action as proposed.

ERP No. F-FHW-F40361-MI MI-59 Proposed Right-of-Way Preservation Project, Funding for Right-of-Way Acquisition, I-96 to US 23, Livingston County, MI.

Summary: EPA has no objection to the right-of-way action as construction will be addressed in a future Tier 2 Draft EIS.

ERP No. FS-TVA-A06018-AL Browns Ferry Nuclear Plant, Operating License Renewal, Units 2 and 3 and Potentially Unit 1 Operations Extension, Athens, Limstone County, AL.

Summary: EPA has five remaining environmental concerns: (1) TVA's preference for Alternative 2 with its 2D cooling option was inconclusively presented, (2) cooling option 2D selected in the FSEIS was not presented in the DSEIS, (3) thermal discharge modeling of 2D was not included until the FSEIS, (4) the proposed action would likely contribute to the thermal load of downstream 303(d) segment of the Tennessee River listed for temperature and other pollutants of concern and (5) cooling option 2D provides the lowest capacity cooling of the four presented cooling tower options and therefore would allow the hottest average thermal discharge.

Dated: May 14, 2002.
Ken Mittelholtz,
Environmental Protection Specialist, Office of Federal Activities.

[FR Doc. 02-12471 Filed 5-16-02; 8:45 am]

BILLING CODE 6560-50-P